Proclamation 10695 of December 29, 2023

National Stalking Awareness Month, 2024

By the President of the United States of America

A Proclamation

During National Stalking Awareness Month, we honor the strength and resilience of the millions of people across this country who have endured stalking. We reaffirm our commitment to building a future where everyone can live free from fear, threats, and abuse.

Stalking at its core is an abuse of power. It affects one in three women and one in six men in their lifetimes. It can happen in person or online; it can be committed by a stranger or someone you know. The fear it sparks can be all-consuming, shattering one's sense of security, safety, and certainty. It can threaten loved ones and even force victims to uproot their lives and move at a moment's notice. It is wrong.

One of my proudest achievements in life was writing and championing the landmark Violence Against Women Act some 30 years ago in the United States Senate. It began to change our culture, bringing these crimes out of the shadows and getting survivors the services and support they needed. Over the years, I worked with courageous advocates to keep expanding protections and boosting access to healing and justice. In 2022, I was proud to sign a reauthorization of the law, increasing investment in prosecution, prevention, and support for survivors of domestic violence, sexual assault, and stalking. The new law also creates a Federal civil cause of action for the non-consensual distribution of intimate images and expands the jurisdiction of Tribal courts to prosecute non-Native American perpetrators of stalking, sexual assault, child abuse, and sex trafficking.

At the same time, we are working to make sure our response keeps pace with technology and protects all Americans from online harassment and cybercrime. In 2022, I created the White House Task Force to Address Online Harassment and Abuse to help stop technology-facilitated gender-based violence. It aims to find new ways to boost accountability, support survivors, and further research the threat. Survivors, parents, educators, advocates, medical and legal professionals, and others have shared their expertise with the task force, which will help inform their work.

This past May, I also released America's first-ever National Plan to End Gender-Based Violence, which tackles the issue on seven fronts—prevention, healing, housing, online safety, the justice system, crisis response, and data. Since the beginning of my Administration, the Department of Justice's Office on Violence Against Women has provided grants to law enforcement, prosecutors, courts, and community organizations to work together to stop stalking and other gender-based crimes. The Department of Housing and Urban Development has provided tens of thousands of emergency housing vouchers to help stalking victims and others find a safe place to rebuild their lives.

Too often, stalking happens in the shadows, hidden from the view of others. This month, we shine a harsh light on these crimes to make clear that this kind of harassment, threat, or unwanted aggressive attention has no place in America. There is so much at stake. Every American deserves to feel safe and protected, have a little peace of mind, and live with dignity and respect.

NOW, THEREFORE, I, JOSEPH R. BIDEN JR., President of the United States of America, by virtue of the authority vested in me by the Constitution and the laws of the United States, do hereby proclaim January 2024 as National Stalking Awareness Month. I call on all Americans to speak out against stalking and to support the efforts of advocates, courts, service providers, and law enforcement to help those who are targeted and send the message to perpetrators that these crimes will not go unpunished.

IN WITNESS WHEREOF, I have hereunto set my hand this twenty-ninth day of December, in the year of our Lord two thousand twenty-three, and of the Independence of the United States of America the two hundred and forty-eighth.

[FR Doc. 2024-00061

Filed 1-3-24; 8:45 am]

Billing code 3395-F4-P